DEPARTMENT OF DEFENSE

Department of the Army, Corps of Engineers

Intent To Prepare a Draft Supplemental Environmental Impact Statement (DSEIS) for the Alaska Gasline Development Corporation (AGDC)'s Proposed Alaska Stand Alone Pipeline (ASAP) Utility-Grade Natural Gas Transportation Pipeline

AGENCY: U.S. Army Corps of Engineers, DoD.

ACTION: Notice of Intent.

SUMMARY: The Alaska District, U.S. Army Corps of Engineers (Corps) intends to prepare a DSEIS to identify and analyze the potential impacts associated with the construction of the proposed ASAP utility grade natural gas transportation pipeline. The Corps is the lead federal agency and currently the National Park Service (NPS), U.S. Fish and Wildlife Service (USFWS), U.S. Bureau of Land Management (BLM), U.S. Department of Transportation, Pipeline and Hazardous Materials Safety Administration (PHMSA), U.S. Environmental Protection Agency (EPA), and the State of Alaska Department of Natural Resources State Pipeline Coordinator's Office (SPCO) are participating as cooperating agencies in the DSEIS development process. The Supplemental Environmental Impact Statement (SEIS) will be used as a basis for the Corps permit decision and to ensure compliance with the National Environmental Policy Act (NEPA). The Corps will be evaluating a permit application for work under Section 10 of the Rivers and Harbors Act, Section 404 of the Clean Water Act, and Section 103 of the Marine Protection Research and Sanctuaries Act of 1972. Because ASAP would require decisions and actions by other federal agencies (such as right-of-way grants and other permits), this DSEIS will also fulfill the NEPA requirements for those cooperating federal agencies.

FOR FURTHER INFORMATION CONTACT: Questions about the proposed action and the DSEIS can be answered by: Ms. Mary Romero, Regulatory Division, telephone: (907) 753-2773, toll free in AK: (800) 478-2712, fax: (907) 753-5567, email: asapeiscomments@usace.army.mil, or mail: U.S. Army Corps of Engineers, CEPOA-RD, Post Office Box 6898, JBER, Alaska 99506-0898. Additional information may be obtained at www.asapeis.com.

SUPPLEMENTARY INFORMATION: 1. The permit applicant, the AGDC, has proposed, “The purpose of the Alaska In-State Gas Pipeline (now known as ASAP) is codified in state law as one of the projects the Alaska Gasline Development Corporation (AGDC) is directed to develop. As stated in state law, AGDC “shall, for the benefit of the state, to the fullest extent possible, . . . develop, finance, construct, and operate an in-state natural gas pipeline in a safe, prudent, economical, and efficient manner, for the purpose of making natural gas, including propane and other hydrocarbons associated with natural gas other than oil, available to Fairbanks, the Southcentral region of the state, and other communities in the state at the lowest rates possible.” (Alaska Statute 31.25.005(4)).

The ASAP Project would be comprised of a natural gas conditioning facility (GCF) near Prudhoe Bay capable of producing 500 MMscfd of utility-grade natural gas; a 36-inch, 727-mile long, 1,480 psig subsurface natural gas pipeline connecting the GCF to the existing ENSTAR pipeline system in the Matanuska-Susitna Borough; and a 12-inch, 29-mile long, 1,480 psig, subsurface lateral line connecting the mainline to Fairbanks. The GCF would be constructed from modules delivered to the existing West Dock causeway in Prudhoe Bay. Facilitating transport and offload of these modular components will require modifications to dock head 3, winter dredging of a navigational channel to a 10-ft depth, nearshore dispersion of dredge material over bottomfast ice, channel screeding, and use of a temporary ballasted barge bridge during offload. The proposed pipeline would be buried except at possible fault crossings, elevated bridge stream crossings, pigging facilities, and block valve locations. Because the pipeline system would be designed to transport utility-grade natural gas, access to smaller communities would be possible. The ASAP route would generally parallel the Trans-Alaska Pipeline System (TAPS) and Dalton Highway corridor to near Livengood, northwest of Fairbanks. At Livengood, the route would continue south, to the west of Fairbanks and Nenana. The pipeline would bypass Denali National Park and Preserve to the east and would then generally parallel the Parks Highway corridor to Willow, continuing south to its connection with ENSTAR's distribution system at MP 39 of the Beluga Pipeline southwest of Big Lake. The Fairbanks Lateral tie-in would be located approximately two miles south of the Chatanika River, crossing at MP 439 of the mainline. From the mainline tie-in, the Fairbanks Lateral pipeline would traverse east over Murphy Dome, following the Murphy Dome and Old Murphy Dome Roads, and then extend southeast into Fairbanks.

2. Alternatives: The Corps will evaluate alternatives including the no action alternative, the proposed action alternative, and other on-site and off-site alternatives. The proposed project and the alternatives to its proposed size, design, and location will be developed through the EIS process and considered along with those routes and variations discussed in the 2012 FEIS.

3. Scoping Process: The scoping period will begin on August 1, 2014, and end on October 14, 2014.

a. The Corps invites full public participation to promote open communication on the issues surrounding the proposal. All federal, state, Tribal, local agencies, and other persons or organizations that have an interest are urged to participate in the NEPA scoping process. Scoping meetings will be held to receive public input on the proposed purpose and need of the project, to identify significant issues and to discuss proposed alternatives. The scoping process will help to further explain the purpose and need plus the alternatives to be reviewed in the DSEIS.

b. Scoping Meetings

Public scoping meetings will be held 5:30-8:30 p.m. on the following dates and locations (exceptions indicated in parentheses). Please check the project Web site (www.asapeis.com) for potential updates to scoping meeting dates and locations:

1. Healy, Monday, August 18, 2014; Tri-Valley Community Center, Usibelli Spur Rd, Healy, AK 99743;

2. Nenana, Tuesday, August 19, 2014; Nenana Native Village Tribal House, PO Box 369, Nenana, AK 99760;

3. Cantwell, Wednesday, August 20, 2014; Cantwell Community Hall, Cantwell, AK 99729;

4. Talkeetna, Thursday, August 21, 2014; Talkeetna Alaska Lodge, 23601 Talkeetna Spur Rd, Talkeetna, AK 99676;

5. Willow, Monday, August 25, 2014; Willow Community Center, PO Box 1027, Willow, AK 99688;

6. Anchorage, Tuesday, August 26, 2014 (to be held 6:30-9:30 p.m.); UAA Consortium Library, Room 307, Anchorage, AK 99508;

7. Kenai, Wednesday, August 27, 2014; Quality Inn, 10352 Kenai Spur Highway, Kenai, AK 99611;

8. Seward, Thursday, August 28, 2014; KM Rae Building at UAA-Seward Campus, 125 Third Ave, Seward, AK 99664;

9. Fairbanks, Tuesday, September 2, 2014; Westmark Hotel, 813 Noble St, Fairbanks, AK 99701;

10. Wiseman, Wednesday, September 3, 2014; Community Center of Wiseman, Wiseman, AK 99701;

11. Minto, September 4, 2014; (Tentatively scheduled at Minto Lake View Lodge), Lake View Rd, Minto, AK 99758;

12. Anuktuvuk Pass, Wednesday, September 10, 2014 (to be held 1:00-4:00 p.m.); Anuktuvuk Pass Community Center, Anaktuvuk Pass, AK 99721;

13. Barrow, Wednesday, September 17, 2014; Inupiat Heritage Center, PO Box 69, Barrow, AK 99723; and

14. Nuiqsut, Thursday, September 18, 2014; Kisik Community Center, PO Box 89148 Nuiqsut, AK 99789.

Comments can be made through oral testimony or as written comments during scoping meetings. Comments can also be submitted to the Corps by October 14, 2014 via mail or email (asapeiscomments@usace.army.mil) (see FOR FURTHER INFORMATION CONTACT). We request that you include in your comments: (1) Your name, address, and affiliation (if any); and (2) Any background documents to support your comments as you think necessary.

4. The lands along the proposed pipeline corridor and one or more of its alternatives are owned by numerous entities; including, federal and state governments, the State of Alaska, and private land holders. Federal land managers include the BLM, NPS and the Department of Defense. Private landholders include Native corporations, Native allottees, and land owned by other private individuals.

5. The DSEIS will analyze the potential social, economic, and environmental impacts to the affected areas with particular focus on elements of the pipeline route that are new and different from the route analyzed in the 2012 FEIS. The following major issues will be analyzed in depth in the DSEIS: Construction of the liquid natural gas delivery system, operation, and maintenance and its affect upon the surrounding communities and environment including: essential fish habitat; threatened and endangered species including critical habitat; cultural resources; socioeconomics; and secondary and cumulative impacts.

6. It is anticipated that the DSEIS will be available in spring 2015 for public review. A second public comment period will occur once the FSEIS is released. For updates to the project schedule and for additional details, please go to the project Web site (www.asapeis.com).

Dated: July 25, 2014.
Michael Salyer,
North Branch Chief, Alaska District, U.S. Army Corps of Engineers.

[FR Doc. 2014-18266 Filed 7-31-14; 8:45 am]

BILLING CODE 3720-58-P